DEPARTMENT OF HOMELAND SECURITY

Coast Guard

33 CFR Part 165

[Docket No. USCG-2010-0063]

Safety Zones; Annual Firework Displays Within the Captain of the Port, Puget Sound Zone—July 2016

AGENCY: Coast Guard, DHS.

ACTION: Notice of enforcement of regulation.

SUMMARY: The Coast Guard will enforce five safety zones for annual firework displays in the Captain of the Port, Puget Sound Zone during the dates and times noted under SUPPLEMENTARY INFORMATION. This action is necessary to prevent injury and to protect life and property of the maritime public from the hazards associated with the firework displays. During the enforcement periods, entry into, transit through, mooring, or anchoring within these safety zones is prohibited unless authorized by the Captain of the Port, Puget Sound or their Designated Representative.

DATES: The regulations in 33 CFR 165.1332 will be enforced for the five safety zones listed under SUPPLEMENTARY INFORMATION during the dates and times specified.

FOR FURTHER INFORMATION CONTACT: If you have questions on this notice of enforcement, call or email MST1 Wayne Lau, Sector Puget Sound Waterways Management, Coast Guard; telephone 206-217-6051, SectorPugetSoundWWM@uscg.mil.

SUPPLEMENTARY INFORMATION: The Coast Guard will enforce the following five safety zones established for Annual Fireworks Displays within the Captain of the Port, Puget Sound Area of Responsibility in 33 CFR 165.1332 during the dates and times noted in the table below.

The following safety zones will be enforced from 5 p.m. on July 4, 2016, through 1 a.m. on July 5, 2016:

Event name | Location | Latitude | Longitude | Radius
Tacoma Freedom Fair | Commencement Bay | 47°17.103′ N | 122°28.410 W | 300 yds.
Des Moines Fireworks | Des Moines | 47°24.117′ N | 122°20.033′ W | 200 yds.
Three Tree Point Community Fireworks | Three Tree Point | 47°27.033′ N | 122°23.15′ W | 200 yds.
Roche Harbor Fireworks | Roche Harbor | 48°36.7′ N | 123°09.5′ W | 200 yds.
Deer Harbor Annual Fireworks Display | Deer Harbor | 48°37.0′ N | 123°00.25′ W | 150 yds.

The special requirements listed in 33 CFR 165.1332(b) apply to the activation and enforcement of these safety zones. All vessel operators who desire to enter the safety zone must obtain permission from the Captain of the Port or their Designated Representative by contacting the Coast Guard Sector Puget Sound Joint Harbor Operations Center (JHOC) on VHF Ch 13 or Ch 16 or via telephone at (206) 217-6002.

The Coast Guard may be assisted by other Federal, State, or local law enforcement agencies in enforcing this regulation.

This notice of enforcement is issued under authority of 33 CFR 165.1332 and 5 U.S.C. 552(a). In addition to the publication of this document in the Federal Register, the Coast Guard will provide the maritime community with extensive advanced notification of enforcement of these safety zones via the Local Notice to Mariners and marine information broadcasts on the day of the events.

Dated: June 27, 2016.
M.W. Raymond,
Captain, U.S. Coast Guard, Captain of the Port, Puget Sound.

[FR Doc. 2016-15634 Filed 6-30-16; 8:45 am]

BILLING CODE 9110-04-P